SMALL BUSINESS ADMINISTRATION

[Disaster Declaration #17336 and #17337; CONNECTICUT Disaster Number CT-00056]

Presidential Declaration Amendment of a Major Disaster for Public Assistance Only for the State of Connecticut

AGENCY: U.S. Small Business Administration.

ACTION: Amendment 1.

SUMMARY: This is an amendment of the Presidential declaration of a major disaster for Public Assistance Only for the State of Connecticut (FEMA-4629-DR), dated 02/03/2022.

Incident: Remnants of Hurricane Ida.

Incident Period: 09/01/2021 through 09/02/2021.

DATES: Issued on 05/10/2022.

Physical Loan Application Deadline Date: Filing period for county listed below ends on 06/09/2022. Filing Period for the previously declared counties ended on 04/04/2022.

Economic Injury (EIDL) Loan Application Deadline Date: 11/03/2022.

ADDRESSES: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street SW, Suite 6050, Washington, DC 20416, (202) 205-6734.

SUPPLEMENTARY INFORMATION: The notice of the President's major disaster declaration for Private Non-Profit organizations in the State of Connecticut, dated 02/03/2022, is hereby amended to include the county listed below. Please contact the SBA disaster assistance customer service center by email at disastercustomerservice@sba.gov or by phone at 1-800-659-2955 to request an application. Applications for physical damages for previously declared counties ended on 04/04/2022. Applications for physical damages for the county listed below may be filed until 06/09/2022. Applications for economic injury may be filed until 11/03/2022.

Primary Counties: Middlesex.

All other information in the original declaration remains unchanged.

(Catalog of Federal Domestic Assistance Number 59008)

Joshua Barnes,
Acting Associate Administrator for Disaster Assistance.

[FR Doc. 2022-12152 Filed 6-6-22; 8:45 am]

BILLING CODE 8026-09-P